DEPARTMENT OF THE INTERIOR

Bureau of Land Management

[AK-910-1310PP-ARAC]

Notice of Public Meeting, Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council will meet as indicated below.

DATES: The meeting will be held February 7-8, 2007, at the Inupiat Heritage Center, 5421 North Star Street in Barrow, Alaska. On February 7 the meeting starts at noon. On February 8 the meeting begins at 8:30 a.m and the council will accept public comment at 1 p.m.

FOR FURTHER INFORMATION CONTACT: Danielle Allen, Alaska State Office, 222 W. 7th Avenue #13, Anchorage, AK 99513. Telephone (907) 271-3335 or e-mail Danielle_Allen@ak.blm.gov.

SUPPLEMENTARY INFORMATION: The 15-member Council advises the Secretary of the Interior, through the Bureau of Land Management, on a variety of planning and management issues associated with public land management in Alaska. At this meeting, topics planned for discussion include:

• South National Petroleum Reserve-Alaska.

• North Slope Borough's Community Based Planning.

• Resource Management Planning.

• Introduction of BLM's Barrow representative.

• Other topics the Council may raise.

All meetings are open to the public. The public may present written comments to the Council. Each formal Council meeting will also have time allotted for hearing public comments. Depending on the number of people wishing to comment and time available, the time for individual oral comments may be limited. Individuals who plan to attend and need special assistance, such as sign language interpretation, transportation, or other reasonable accommodations, should contact BLM.

Dated: January 4, 2007.
Julia Dougan,
Acting State Director.

[FR Doc. E7-136 Filed 1-9-07; 8:45 am]

BILLING CODE 4310-JA-P